DEPARTMENT OF JUSTICE

Notice of Lodging of Proposed Consent Decree Under the Comprehensive Environmental Response, Compensation and Liability Act

On November 1, 2024, the Department of Justice lodged a proposed Consent Decree with the United States District Court for the District of Nebraska in the lawsuit entitled United States v. Black Hills Nebraska Gas, LLC, et al., Civil Action No. 8:24-cv-425.

The United States filed this lawsuit under the Comprehensive Environmental Response, Compensation and Liability Act (CERCLA). The United States' complaint names Black Hills Nebraska Gas, LLC; Brightspeed Kansas Holding, LLC; and Nebraska Public Power District as defendants. The complaint seeks response costs and injunctive relief to address releases of hazardous substances at the Iowa-Nebraska Light & Power Company Superfund Site in Norfolk, Nebraska. Under the terms of the proposed consent decree, the defendants will complete a cleanup action that EPA selected for the site, which will include in-place treatment of contamination accompanied by environmental monitoring. The defendants will also be responsible for reimbursing EPA for costs incurred in reviewing the work. In return, the United States agrees not to sue the defendants under sections 106 and 107 of CERCLA.

The publication of this notice opens a period for public comment on the Consent Decree. Comments should be addressed to the Assistant Attorney General, Environment and Natural Resources Division, and should refer to United States v. Black Hills Nebraska Gas, LLC, et al., D.J. Ref. No. 90-11-3-12784. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Consent Decree may be examined and downloaded at this Justice Department website: https://www.justice.gov/enrd/consent-decrees. If you require assistance accessing the Consent Decree, you may request assistance by email or by mail to the addresses provided above for submitting comments.

Kathryn C. Macdonald,
Assistant Section Chief, Environmental Enforcement Section, Environment and Natural Resources Division.

[FR Doc. 2024-25858 Filed 11-6-24; 8:45 am]

BILLING CODE 4410-15-P